DEPARTMENT OF HOUSING AND URBAN DEVELOPMENT

[Docket No. FR-5689-N-01]

Notice of Proposed Information Collection: Comment Request Rent Reform Demonstration (Task Order 1)

AGENCY: Office of Policy Development and Research, HUD.

ACTION: Notice.

SUMMARY: The proposed information collection requirement described below will be submitted to the Office of Management and Budget (OMB) for review, as required by the Paperwork Reduction Act. The Department is soliciting public comments on the subject proposal.

DATES: Comments Due Date: March 19, 2013.

ADDRESSES: Interested persons are invited to submit comments regarding this proposal. Comments should refer to the proposal by name and should be sent to: Reports Liaison Officer, Office of Policy Development and Research, Department of Housing and Urban Development, 451 Seventh Street SW., Room 8230, Washington, DC 20410.

FOR FURTHER INFORMATION CONTACT: Jennifer Stoloff, Department of Housing and Urban Development, Office of Policy Development and Research, 451 7th Street SW., Room 8120, Washington, DC 20410; telephone (202) 402-5723, (this is not a toll free number). Copies of the proposed data collection instruments and other available documents may be obtained from Dr. Stoloff.

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including if the information will have practical utility; (2) Evaluate the accuracy of the agency's estimate of the burden of proposed collection of information; (3) Enhance the quality, utility, and clarity of the information to be collected; and (4) Minimize the burden of the collection of information on those who are to respond, including through the use of appropriate automated collection techniques or other forms of information technology, e.g., permitting electronic submission of responses.

This notice also lists the following information:

Title of Proposal: Rent Reform Demonstration.

Description of the need for information and proposed use: The Department is conducting this study under contract with MDRC and its subcontractors (Branch Associates, The Bronner Group, Decision Information Resources, Quadel Consulting Corporation, and the Urban Institute). The project is a random controlled trial of a new alternative rent system. Families will be randomly assigned to either participate in the new/alternative rent system or to continue in the current system. Outcomes of the alternative system are hypothesized to be increases in earnings, more accurate reporting of earnings, and job retention. Random assignment will limit the extent to which selection bias drives observed results. The demonstration will document the progress of a group of Voucher holders, who will be drawn from both the current residents and new enrollees. The intent is to gain an understanding of the impact of the alternative rent system on the families as well as the administrative burden on Public Housing Agencies (PHAs). PHAs currently participating in the Moving to Work (MtW) Demonstration are being recruited to participate in this demonstration.

Data collection will include the families that are part of the treatment and control groups, as well as PHA staff. Data will be gathered through a variety of methods including informational interviews, direct observation, surveys, and analysis of administrative records. The work covered under this information request is for interviews and the baseline survey. Additional work will be undertaken in subsequent task orders and covered under a separate information collection request.

Members of the affected public:

PHA Staff | Approximately 25 (i.e., assuming up to 5 staff at up to 5 PHAs)
Families with housing vouchers, remaining in the current rent system (control group): | Up to 2,000.
Families with housing vouchers, enrolled in the alternative rent system (treatment group): | Up to 2,000.

Estimation of the total number of hours needed to prepare the information collection including number of respondents, frequency of response, and hours of response:

Instrument | Number of respondents | Number responses per respondent | Average burden/response (in hours) | Total burden hours
Informed Consent Form (ICF) | 4,000 | 1 | Up to 15 minutes (or .25 hours) | 1,000 hours.
Baseline Information Form (includes completion of the Contact Sheet) | 4,000 | 1 | 30 minutes, on average (or .50 hours) | 2,000 hours.
Tracking survey sample | 4,000 | 1 | Maximum of 30 minutes (or .50 hours), mainly to update contact information | 2,000 hours.
Preliminary data collection related to implementation of alternative rent model. Meeting could include: PHA case management staff, PHA data management staff, or other PHA staff involved in rent reform activities | 25 staff total (5 staff * 5 sites ) | 1 | Meetings to be incorporated into technical assistance and monitoring visits, and projected to run 30-60 minutes | 1,500 hours (or 60 minutes * 25 staff).

Total: 6,500 hours.

Status of the proposed information collection: Pending OMB approval.

Authority: Title 13 U.S.C. Section 9(a), and Title 12, U.S.C., Section 1701z-1 et seq.

Dated: January 11, 2013.
Jean Lin Pao,
General Deputy Assistant Secretary for Policy Development and Research.

[FR Doc. 2013-01059 Filed 1-17-13; 8:45 am]

BILLING CODE 4210-67-P